DEPARTMENT OF AGRICULTURE

Animal and Plant Health Inspection Service

[Docket No. APHIS-2007-0135]

Citrus Greening and Asian Citrus Psyllid; Availability of an Environmental Assessment

AGENCY: Animal and Plant Health Inspection Service, USDA.

ACTION: Notice of availability and request for comments.

SUMMARY: We are advising the public that an environmental assessment has been prepared by the Animal and Plant Health Inspection Service relative to a new Federal order that restricts the interstate movement of regulated articles from areas quarantined for citrus greening disease and the Asian citrus psyllid. The environmental assessment documents our review and analysis of the potential environmental impacts associated with the implementation of the new Federal order. We are making this environmental assessment available to the public for review and comment.

DATES: We will consider all comments that we receive on or before December 3, 2007.

ADDRESSES: You may submit comments by either of the following methods:

Federal eRulemaking Portal: Go to http://www.regulations.gov, select “Animal and Plant Health Inspection Service” from the agency drop-down menu, then click “Submit.” In the Docket ID column, select APHIS-2007-0135 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2007-0135, Regulatory Analysis and Development, PPD, APHIS, Station 3A-03.8, 4700 River Road Unit 118, Riverdale, MD 20737-1238. Please state that your comment refers to Docket No. APHIS-2007-0135.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Stephen R. Poe, Senior Operations Officer, Emergency and Domestic Programs, PPQ, APHIS, 4700 River Road Unit 134, Riverdale, MD 20737-1236; (301) 734-8899.

SUPPLEMENTARY INFORMATION:

Background

Citrus greening, also known as huanglongbing, is considered to be one of the most serious citrus diseases in the world. Citrus greening is a bacterial disease that attacks the vascular system of plants. The bacteria are phloem-limited and cause yellow shoots, blotchy mottling and chlorosis, reduced foliage, and tip dieback of citrus plants. It greatly reduces production, destroys the economic value of the fruit, and can kill trees. Once infected, there is no cure for a tree with citrus greening disease. In areas of the world where citrus greening is endemic, citrus trees decline and die within a few years and may never produce usable fruit. Citrus greening is widespread in Asia, Africa, and the Saudi Arabian Peninsula. It has been reported in Sao Paulo, Brazil. It was first detected in the United States in Miami-Dade County, Florida, in 2005, and now has been confirmed in 28 counties in Florida.

Citrus greening is transmitted by two insect vectors in the family Psyllidae: Diaphorina citri Kuwayama, the Asian citrus psyllid, and Trioza erytreae (del Guercio), the African citrus psyllid. It can also be transmitted by grafting, by dodder, and possibly by seed. Asian citrus psyllid can cause economic damage to citrus in groves and nurseries by direct feeding. Both adults and nymphs feed on young foliage, depleting the sap and causing galling or curling of leaves. High populations feeding on a citrus shoot can kill the growing tip. More importantly, this psyllid is able to transmit an endocellular bacterium, Candidatus Liberobacter asiaticus, which causes citrus greening disease. Asian citrus psyllid is currently present in Florida, Hawaii, Puerto Rico, Guam, and several counties in Texas. The African citrus psyllid is not known to be present in the United States.

On September 16, 2005, the Animal and Plant Health Inspection Service imposed restrictions on the interstate movement of all citrus greening host plant material and Asian citrus psyllid host plant material from quarantined areas in Florida in order to prevent the artificial spread of citrus greening and of Asian citrus psyllid. APHIS subsequently updated those restrictions by issuing a Federal order on May 3, 2006. This action was necessary due to the continuing spread of both Citrus greening and Asian citrus psyllid. Since that time, infestations of citrus greening have been confirmed in a total of 28 counties in Florida. Asian citrus psyllid has now been confirmed in several counties in Texas, and throughout the States of Florida and Hawaii, the commonwealth of Puerto Rico, and the territory of Guam. APHIS is therefore issuing a new Federal order that updates and replaces the previous Federal order regarding quarantines to prevent the dissemination of citrus greening or Asian citrus psyllid.

APHIS and the Florida Department of Agriculture and Consumer Services have imposed restrictions on the movement of certain material from counties in Florida where citrus greening is present. Even with these actions, citrus greening has continued to expand its range within the State of Florida and Asian citrus psyllid has been found throughout Florida and in other areas of the United States, creating a greater range than had been anticipated. In order to protect the domestic citrus industry, including the individual farmers who comprise the base of that industry, APHIS must act quickly to expand the Federal order.

APHIS has completed an assessment of the environmental impacts anticipated from the implementation of a new Federal order for the domestic quarantine of citrus greening disease and Asian citrus psyllid. There is now scientific evidence showing that orange jasmine (Murraya paniculata) and related species are hosts of citrus greening as well as the Asian citrus psyllid. Previously, orange jasmine was regulated only as a host of the Asian citrus psyllid. The new Federal order will add Murraya spp. to the citrus greening host list. The main difference in the new Federal order is the expansion of the citrus greening quarantined area in Florida and the distinction made between citrus greening and Asian citrus psyllid quarantine areas.

APHIS' review and analysis of the potential environmental impacts associated with the implementation of the new Federal order are documented in detail in an environmental assessment titled “Movement of Regulated Articles from a Citrus Greening Quarantine Zone” (October 2007). We are making this environmental assessment available to the public for review and comment. We will consider all comments that we receive on or before the date listed under the heading DATES at the beginning of this notice.

Due to the serious and destructive nature of citrus greening disease, it is necessary to expand the number of counties in Florida from which the movement of plants that are hosts of citrus greening is present in order to prevent the further spread and infestation. It is also necessary to expand the areas quarantined due to the presence of Asian citrus psyllid so that host plants can be treated and inspected before being moved interstate. Since citrus greening is a highly injurious citrus disease, and the Asian citrus psyllid is harmful both as the insect vector of the disease and as a significant citrus pest in its own right, APHIS has determined that it may be necessary to immediately address both the disease and the associated insect pest. This will be accomplished by the restriction of hosts of citrus greening from areas where the disease is present, and the regulation and treatment of plants that are hosts of the psyllid from those areas where the insect is present and may be spread through the movement of infested nursery stock. Therefore, APHIS may have to begin the expanded citrus greening regulatory program in Florida immediately and issue a finding of no significant impact for the environmental assessment before the comment period on the environmental assessment concludes. Nevertheless, all comments received on the environmental assessment will be evaluated and responded to after the comment period has ended.

The environmental assessment may be viewed on the Regulations.gov Web site or in our reading room (see ADDRESSES above for instructions for accessing Regulations.gov and information on the location and hours of the reading room). You may request paper copies of the environmental assessment by calling or writing to the person listed under FOR FURTHER INFORMATION CONTACT. Please refer to the title of the environmental assessment when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC this 30th day of October 2007.
Kevin Shea,
Acting Administrator, Animal and Plant Health Inspection Service.

[FR Doc. E7-21679 Filed 11-1-07; 8:45 am]

BILLING CODE 3410-34-P